DEPARTMENT OF THE INTERIOR

Bureau of Land Management

[WO-310-1310-PB-24 1A]

Oil and Gas Leasing: Onshore Oil and Gas Operations—Fees, Rentals, and Royalty

AGENCY: Bureau of Land Management, Interior.

ACTION: Notice of termination of the stripper well royalty reductions program.

SUMMARY: The termination of benefits for stripper well properties was effective February 1, 2006, and replaced by Section 343 of the Energy Policy Act of 2005, which was established a Marginal Property Production Incentives Program (MPPIP).

FOR FURTHER INFORMATION CONTACT: Rudy Baier, Division of Fluid Minerals, BLM, (202) 452-5024. Persons who use a telecommunications device for the deaf may call the Federal Information Relay Service at 1-800-877-8339, 24 hours a day, 7 days a week, except holidays, for assistance in reaching Mr. Baier.

SUPPLEMENTARY INFORMATION: By Federal Register notice (70 FR 42093) dated July 21, 2005, the Bureau of Land Management (BLM) provided six-month notification, as required by regulation, to terminate the benefits of the royalty rate reductions granted under the stripper well royalty reductions (see 43 CFR 3103.4-2) program. In that FR notice, the BLM requested comments specifically on the financial conditions under which the BLM would reestablish the benefits under that program. The BLM received five comments. The comments will be considered if BLM develops a stripper/marginal property replacement program.

The BLM has determined that it will not establish the current program since the MPPIP was established by Congress to take its place until the Secretary of the Interior issues regulations prescribing different relief.

The current regulations authorize royalty rate reduction on a case-by-case basis (see 43 CFR 3103.4-1).

Dated: October 19, 2006.
Thomas P. Lonnie,
Assistant Director, Minerals, Realty, and Resource Protection.

[FR Doc. 06-9530 Filed 12-07-06; 8:45 am]

BILLING CODE 4310-84-M